DEPARTMENT OF THE TREASURY

Agency Information Collection Activities; Submission for OMB Review; Comment Request; Bureau of Engraving and Printing Background Investigation Request Form

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before November 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Bureau of Engraving and Printing (BEP)

Title: Bureau of Engraving and Printing Background Investigation Request Form.

OMB Control Number: 1520-NEW.

Type of Review: Extension without change of a currently approved collection.

Description: The Background Information Request Form is completed by applicant companies per BEP Circular 82-00.13 to establish the eligibility of each company and key personnel to gain access to test decks of new designs and production samples of Federal Reserve Notes so they can update their products to denominate and/or authenticate genuine currency. The applicant companies are Banknote Equipment Manufacturers (BEMs) and Currency Reader Manufacturers (CRMs). Banknote Equipment Manufacturers (BEMs) are companies that produce any type of equipment that handles banknotes for commercial purposes involving accept/reject decisions for FRNs. Currency Reader Manufacturers (CRMs) are companies that produce a commercially available device or application designed for the purpose of denominating US currency by an individual.

Affected Public: Businesses or other-for-profits (Banknote Equipment Manufacturers and Currency Reader Manufacturers and their employees).

Estimated Number of Respondents: 50.

Frequency of Response: On occasion.

Estimated Total Number of Annual Responses: 50.

Estimated Time per Response: 45 minutes.

Estimated Total Annual Burden Hours: 37.5 hours.

Authority: 44 U.S.C. 3501 et seq.

Dated: October 7, 2021.
Molly Stasko,
Treasury PRA Clearance Officer.

[FR Doc. 2021-22258 Filed 10-12-21; 8:45 am]

BILLING CODE 4840-01-P